DEPARTMENT OF AGRICULTURE

Food Safety and Inspection Service

[Docket No. 01-014N]

National Advisory Committee on Meat and Poultry Inspection

AGENCY: Food Safety and Inspection Service, USDA.

ACTION: Notice of public meeting.

SUMMARY: The National Advisory Committee on Meat and Poultry Inspection (NACMPI) will hold a public meeting on June 5-6, 2001, to review and discuss three issues: (1) Emerging egg and egg products strategy, (2) Industry's petition of proposed changes to the HACCP final rule—Agency current thinking, and (3) Federal, State, and Local government working relationships on food safety issues—new directions. The three subcommittees of the full Committee will also meet on June 5, 2001, to work on issues discussed during the full Committee session. All interested parties are welcome to attend the meeting and to submit written comments and suggestions concerning issues the Committee will review and discuss.

DATES: The full Committee will hold a public meeting on Tuesday, June 5, and Wednesday, June 6, 2001 from 8:30 a.m. to 5:00 p.m. Subcommittees will hold open meetings on Tuesday, June 5, 2001, from 7 p.m. to 9 p.m.

Note: FSIS was not able to publish notification of this public meeting in the Federal Register at least 15 days prior to the meeting, as required by Departmental Regulation 1041-001, due to late changes to the agenda.

ADDRESSES: All Committee meetings will take place at the Holiday Inn Capitol at the Smithsonian Hotel, 550 C Street, SW., Washington, DC 20024; telephone (202) 554-2780. The full committee will meet in main ballroom Columbia I & II on June 5-6, 2001. The subcommittees will meet in the Saturn, Venus and Jupiter Rooms. A meeting agenda is available on the FSIS Web Site at http://www.fsis.usda.gov/OPPDE/nacmpi which is a sub-web page of the FSIS Homepage at http://www.fsis.usda.gov. Submit one original and two copies of written comments to FSIS Docket Room, Docket #01-014N, U.S. Department of Agriculture, Food Safety and Inspection Service, Room 102 Cotton Annex, 300 12th Street SW., Washington, DC 20250-3700. Comments may also be sent by facsimile (202) 205-0381. The comments and the official transcript of the meeting, when they become available, will be kept in the FSIS Docket Room at the address provided above. All comments received in response to this notice will be considered part of the public record and will be available for reviewing in the FSIS Docket Room between 8:30 a.m. and 4:30 p.m., Monday through Friday.

FOR FURTHER INFORMATION CONTACT: Charles L. Gioglio for technical information at (202) 205-0256 and for meeting information contact Sonya L. West at (202) 720-2561, FAX (202) 205-0157, or E-mail sonya.west@usda.gov. Persons requiring a sign language interpreter or other special accommodations should notify Ms. West by May 29, 2001, at the above numbers or by e-mail. Information is also available on FSIS Web Site at http://www.fsis.usda.gov/OPPDE/nacmpi.

SUPPLEMENTARY INFORMATION:

Background

On January 19, 2001, the Secretary of Agriculture renewed the charter for the NACMPI. The Committee provides advice and recommendations to the Secretary of Agriculture pertaining to the Federal and State meat and poultry inspection programs pursuant to sections 7(c), 24, 205, 301(a)(3), and 301(c) of the Federal Meat Inspection Act and sections 5(a)(3), 5(c), 8(b), and 11(e) of the Poultry Products Inspection Act. The Administrator of FSIS is the chairperson of the Committee. Membership of the Committee is drawn from representatives of consumer groups; producers, processors, and marketers from the meat and poultry industry; State government officials; and academia. The current members of the NACMPI are: Dr. Gladys Bayse, Spelman College; Nancy Donley, Safe Tables Our Priority; Sandra Eskin, American Association of Retired Persons; Carol Tucker Foreman, Food Policy Institute, Consumer Federation of America; Michael Govro, Oregon Department of Agriculture; Martin Holmes, North American Meat Processors; Dr. Lee C. Jan, Texas Department of Health; Alice Johnson, National Turkey Federation; Collette Schultz Kaster, Premium Standard Farms; Dr. Daniel E. LaFontaine, South Carolina Meat Poultry Inspection Department; Dr. Irene Leech, Virginia Tech; Charles Link, Rocco Inc.; Dr. Catherine Logue, North Dakota State University; Michael Mamminga, Iowa Department of Agriculture; Dr. Dale Morse, New York Office of Public Health; Dr. Elsa Murano, Texas A&M University; and John Neal, Courseys Smoked Meats.

The Committee has three standing subcommittees to deliberate on specific issues and make recommendations to the whole Committee. The Committee makes recommendations to the Secretary of Agriculture.

Members of the public will be required to register before entering the meeting.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience.

For more information and to be added to the constituent fax list, fax your request to the Congressional and Public Affairs Office, at (202) 720-5704.

Done at Washington, DC on: May 23, 2001.
Thomas J. Billy,
Administrator.

[FR Doc. 01-13388 Filed 5-25-01; 8:45 am]

BILLING CODE 3410-DM-P